DEPARTMENT OF ENERGY

Federal Energy Regulatory Commission

[Project No. 5124-022]

Washington Electric Cooperative, Inc.; Notice of Application Tendered for Filing With the Commission and Establishing Procedural Schedule for Licensing and Deadline for Submission of Final Amendments

Take notice that the following hydroelectric application has been filed with the Commission and is available for public inspection.

a. Type of Application: New Minor License.

b. Project No.: 5124-022.

c. Date Filed: October 30, 2020.

d. Applicant: Washington Electric Cooperative, Inc. (WEC).

e. Name of Project: North Branch No. 3 Hydroelectric Project.

f. Location: On the North Branch Winooski River in Washington, County, Vermont. The project does not affect federal lands.

g. Filed Pursuant to: Federal Power Act 16 U.S.C. 791(a)-825(r).

h. Applicant Contact: Ms. Patricia Richards, General Manager, Washington Electric Cooperative, Inc., P.O. Box 8, 40 Church Street East Montpelier, Vermont 05651; phone: (802) 223-5245 or email at patty.richards@wec.coop.

i. FERC Contact: Michael Tust at (202) 502-6522; or email at michael.tust@ferc.gov.

j. This application is not ready for environmental analysis at this time.

k. Project Description:

Existing Project Facilities and Operation

The project is located at the existing 115-foot-high, 1,525-foot-long Wrightsville Dam which is owned, operated, and maintained by the state of Vermont for flood control but also contains facilities utilized by WEC for hydropower generation. The licensed project consists of the following constructed facilities: A 445-foot-long, 5-foot-diameter steel aboveground penstock emerging from the base of the dam that conveys water to a 1,320-square-foot partially-buried project powerhouse containing three fixed blade turbines with rated capacities of 96, 259, and 578-kilowatts (kW) for a total installed capacity of 933 kW; a 750 square-foot substation located adjacent to the powerhouse that steps up the voltage from 4.16 kilovolts (kV) to 12.5 kV; a 450-foot-long, 12.5-kV transmission line; and appurtenant facilities.

Water from Wrightsville Reservoir enters an existing non-project intake structure at the dam containing two separate intake chambers: A “hydropower bay” located at an elevation of 631 feet and an overflow bay located at an elevation of 635 feet. Water entering the hydropower bay passes through trashracks, a headgate, and non-project conveyance tunnel within the dam and is conveyed to the powerhouse through the project penstock before re-entering the North Branch Winooski River approximately 400 feet downstream of the dam creating a 400-foot bypassed reach. Water entering the overflow bay passes through trashracks and an overflow tunnel within the dam before being discharged to the bypassed reach through a low-level outlet at the base of the dam. WEC's three turbines located in the powerhouse cannot be throttled; however, WEC operates its turbines in a specific sequence to operate in near run-of-river mode while maintaining reservoir elevations between 633 and 635 feet from September 1 through May 31 and between 634 and 635 feet from June 1 through August 31. Additionally, WEC maintains minimum flows of 3.4 cubic feet per second (cfs) in the bypassed reach and 25 cfs in the North Branch Winooski River downstream of the powerhouse.

Proposed Project Facilities and Operation

WEC proposes to bring the following existing facilities into the project boundary as project structures: the trash racks with one-inch spacing and the 9.5-foot by 6.5-foot headgate located within the non-project hydropower bay at the intake; the 1.3-foot by 1.5-foot automated minimum flow gate located at the base of the wall separating the two intake chambers used to pass minimum flows to the bypassed reach; the 100 square-foot hydraulic house located within the dam housing a hydraulic pump and controls used to operate the project headgate and minimum flow gate; and the 550-foot-long dirt road used to access the intake structure.

WEC would continue to operate its three turbine units to replicate near run-of-river operations and continue to maintain its existing minimum flows both within the bypassed reach (i.e., 3.4 cfs) and downstream of the powerhouse (i.e., 25 cfs). However, WEC proposes to modify operations by using its minimum flow gate to release more flow into the bypassed reach (up to 25 cfs) as generating units are turned on and off to reduce flow fluctuations downstream of the powerhouse. WEC also proposes to maintain the reservoir between an elevation of 634 and 635 feet year-round (rather than operating between 633-635 feet) and would cease all generation when reservoir levels fall below 634 feet.

l. Locations of the Application: In addition to publishing the full text of this document in the Federal Register, the Commission provides all interested persons an opportunity to view and/or print the contents via the internet through the Commission's Home Page (http://www.ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (866) 208-3676 or TYY, (202) 502-8659.

m. You may also register online at https://ferconline.ferc.gov/FERCOnline.aspx to be notified via email of new filings and issuances related to this or other pending projects. For assistance, contact FERC Online Support.

n. Procedural schedule: The application will be processed according to the following preliminary Hydro Licensing Schedule. Revisions to the schedule will be made as appropriate.

Milestone | Target date
Issue Notice of Acceptance/Notice of Ready for Environmental Analysis | December 2020.
Filing of recommendations, preliminary terms and conditions, and fishway prescriptions | February 2021.
Commission issues draft NEPA document | August 2021.
Comments on draft NEPA document | September 2021.
Filing of modified terms and conditions | November 2021.
Commission issues final NEPA document | February 2022.

o. Final amendments to the application must be filed with the Commission no later than thirty (30) days from the issuance date of the notice of ready for environmental analysis.

Dated: November 13, 2020.
Nathaniel J. Davis, Sr.,
Deputy Secretary.

[FR Doc. 2020-25560 Filed 11-18-20; 8:45 am]

BILLING CODE 6717-01-P